DEPARTMENT OF TRANSPORTATION

Federal Aviation Administration

14 CFR Part 39

[Docket No. FAA-2012-0719; Directorate Identifier 2011-NM-240-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 freighter series airplanes; Model A330-200 and -300 series airplanes; and Model A340-200 and -300 series airplanes. This proposed AD was prompted by reports of ram air turbine (RAT) pump failure. This proposed AD would require inspecting the RAT pump anti-stall valve for correct setting, re-identifying the RAT pump, performing a functional ground test of the RAT, and replacing the RAT pump or the RAT assembly with a serviceable part if necessary. We are proposing this AD to detect and correct malfunction of the RAT pump, which could lead to in-flight loss of the RAT-pump pressurization, possibly resulting in reduced control of the airplane.

DATES: We must receive comments on this proposed AD by August 27, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0719; Directorate Identifier 2011-NM-240-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0197, dated October 10, 2011 (referred to after this as “the MCAI”), to correct an unsafe condition for the specified products. The MCAI states:

During a test flight before delivery from production, an A330 aeroplane experienced a RAT [ram air turbine] pump failure, as a result of which, the green hydraulic system could not be fully pressurized.

Investigations concluded that this malfunction was due to poor installation of the anti-stall valve sleeve, causing a shift in the anti-stall speed setting and leading to an inability of the hydraulic pump Part Number (P/N) 5909522 to provide enough hydraulic pressure.

This condition, if not detected and corrected, could lead to the in-flight loss of the RAT-Pump pressurization which, in case of a total engine flame out, could have consequences for the hydraulic circuits, possibly resulting in reduced control of the aeroplane. A340-500/-600 series aeroplanes are not affected by this issue because they are fitted with a different hydraulic pump P/N.

For the reasons described above, this [EASA] AD requires a check to ensure correct setting of the RAT anti-stall valve in the pump housing, followed by a RAT functional ground test, and accomplishment of the applicable corrective actions, depending on findings.

Corrective actions include replacing the RAT pump or the RAT assembly with a serviceable part. Required actions include reporting the findings of the inspection. You may obtain further information by examining the MCAI in the AD docket.

Relevant Service Information

Airbus has issued Mandatory Service Bulletin A330-29-3117, dated July 19, 2011 (for Model A330 airplanes); and Mandatory Service Bulletin A340-29-4090, dated July 19, 2011 (for Model A340 airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 59 products of U.S. registry. We also estimate that it would take about 4 work-hours per product to comply with the basic requirements of this proposed AD. The average labor rate is $85 per work-hour. Based on these figures, we estimate the cost of the proposed AD on U.S. operators to be $20,060, or $340 per product.

In addition, we estimate that any necessary follow-on actions would take about 7 work-hours and require parts costing up to $405,143, for a cost of up to $405,738 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0719; Directorate Identifier 2011-NM-240-AD.

(a) Comments Due Date

We must receive comments by August 27, 2012.

(b) Affected ADs

None.

(c) Applicability

This AD applies to Airbus Model A330-201, -202, -203, -223, -243, -223F, -243F, -301, -302, -303, -321, -322, -323, -341, -342, and -343 airplanes; and Airbus Model A340-211, -212, -213, -311, -312, and -313 airplanes; certificated in any category; all manufacturer serial numbers.

(d) Subject

Air Transport Association (ATA) of America Code 29: Hydraulic Power.

(e) Reason

This AD was prompted by reports of ram air turbine (RAT) pump failure. We are issuing this AD to detect and correct malfunction of the RAT pump, which could lead to in-flight loss of the RAT-pump pressurization, possibly resulting in reduced control of the airplane.

(f) Compliance

You are responsible for having the actions required by this AD performed within the compliance times specified, unless the actions have already been done.

(g) Actions

(1) Within the applicable compliance time specified in table 1 of this AD, as applicable, check the RAT pump anti-stall valve for correct setting, re-identify the RAT pump, and do a functional ground test of the RAT, except as required by paragraph (g)(3) of this AD; in accordance with the Accomplishment Instructions of the applicable service bulletin specified in paragraph (g)(1)(i) or (g)(1)(ii) of this AD.

(i) Airbus Mandatory Service Bulletin A330-29-3117, dated July 19, 2011 (for Model A330 airplanes).

(ii) Airbus Mandatory Service Bulletin A340-29-4090, dated July 19, 2011 (for Model A340 airplanes).

Table 1—Compliance Times
Affected airplanes | Compliance time
For airplanes on which the A330 (certification maintenance requirements) CMR Task 292000-00001-1-C, or A340-200/-300 CMR Task 292000-A0001-1-C, or A330/A340 (maintenance review board report) MRBR Task 29.20.00/06, as applicable to the airplane type, has not been accomplished as of the effective date of this AD | Within 3,000 flight hours or 7 months, whichever occurs first after the effective date of this AD.
For airplanes on which the A330 CMR Task 292000-00001-1-C, or A340-200/-300 CMR Task 292000-A0001-1-C, or A330/A340 MRBR Task 29.20.00/06, as applicable to the airplane type, has already been accomplished as of the effective date of this AD | Within 24 months after the last accomplishment of A330 CMR Task 292000-00001-1-C, or A340-200/-300 CMR Task 292000-A0001-1-C, or A330/A340 MRBR Task 29.20.00/06, applicable to the airplane type, or 30 days after the effective date of this AD, whichever occurs later.

(2) If the functional ground test of the RAT, as required by paragraph (g)(1) of this AD, is not successful (as defined by the Accomplishment Instructions of the applicable service bulletin specified in paragraph (g)(1)(i) or (g)(1)(ii) of this AD): Before further flight, replace the RAT pump or the RAT assembly with a serviceable part, in accordance with the Accomplishment Instructions of the applicable service bulletin specified in paragraph (g)(1)(i) or (g)(1)(ii) of this AD.

(3) Any airplane equipped with a RAT hydraulic pump marked with an “X” or a date (month/year) in the amendment cell C of the identification plate, which has been successfully tested (as defined by the Accomplishment Instructions of the applicable service bulletin specified in paragraph (g)(1)(i) or (g)(1)(ii) of this AD) in accordance with the Accomplishment Instructions of the applicable service bulletin specified in paragraph (g)(1)(i) or (g)(1)(ii) of this AD prior to the effective date of this AD, is considered compliant with the requirements of paragraphs (g)(1) and (g)(2) of this AD.

(h) Parts Installation

As of the effective date of this AD, no person may install any RAT hydraulic pump or RAT assembly unless it has been inspected, corrected, and successfully tested (as defined by the Accomplishment Instructions of the applicable service bulletin specified in paragraph (g)(1)(i) or (g)(1)(ii) of this AD) in accordance with the requirements of paragraph (g) of this AD, on any airplane.

(i) Definition

A serviceable part is a RAT hydraulic pump or RAT assembly that has been inspected, corrected, and successfully tested (as defined by the Accomplishment Instructions of the applicable service bulletin specified in paragraph (g)(1)(i) or (g)(1)(ii) of this AD), in accordance with the Accomplishment Instructions of the applicable service bulletin specified in paragraph (g)(1)(i) or (g)(1)(ii) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI European Aviation Safety Agency Airworthiness Directive

2011-0197, dated October 10, 2011, and the service bulletins specified in paragraphs (k)(1)(i) and (k)(1)(ii) of this AD, for related information.

(i) Airbus Mandatory Service Bulletin A330-29-3117, dated July 19, 2011.

(ii) Airbus Mandatory Service Bulletin A340-29-4090, dated July 19, 2011.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on July 5, 2012.
Kalene C. Yanamura,
Acting Manager, Transport Airplane Directorate, Aircraft Certification Service.

[FR Doc. 2012-16966 Filed 7-10-12; 8:45 am]

BILLING CODE 4910-13-P